FEDERAL COMMUNICATIONS COMMISSION

47 CFR Part 73

[DA 13-1603; MB Docket No. 13-23; RM-11690]

Radio Broadcasting Services; Pearsall, Texas

AGENCY: Federal Communications Commission.

ACTION: Final rule.

SUMMARY: The Audio Division, at the request of Bryan King (“petitioner”), deletes FM Channel 227A and allots FM Channel 277A at Pearsall, Texas. Channel 277A can be allotted at Pearsall, consistent with the minimum distance separation requirements of the Commission's rules, at coordinates 28-56-40 NL and 99-11-44 WL, with a site restriction of 11.4 km (7.1 miles) northwest of the community. The Government of Mexico has concurred with the allotment of Channel 277A at Pearsall, which is located within 320 kilometers (199 miles) of the U.S.-Mexican border. See Supplementary Information infra.

DATES: Effective November 20, 2014, and applicable September 2, 2013.

FOR FURTHER INFORMATION CONTACT: Deborah Dupont, Media Bureau, (202) 418-2180.

SUPPLEMENTARY INFORMATION: This is a synopsis of the Commission's Report and Order, MB Docket No. 13-23, adopted July 18, 2013, and released July 19, 2013. The full text of this Commission decision is available for inspection and copying during normal business hours in the FCC Information Center, Portals II, 445 12th Street, SW., Room CY-A257, Washington, DC 20554. The complete text of this decision also may be purchased from the Commission's duplicating contractor, Best Copy and Printing, Inc., 445 12th Street SW., Room CY-B402, Washington, DC, 20554, (800) 378-3160, or via the company's Web site, www.bcpiweb.com. This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing Channel 227A at Pearsall; and by adding Channel 277A at Pearsall.

[FR Doc. 2014-27536 Filed 11-19-14; 8:45 am]

BILLING CODE 6712-01-P